CORPORATION FOR NATIONAL AND COMMUNITY SERVICE

Notice of Availability of 2004 AmeriCorps Application Guidelines and Technical Assistance Calls

AGENCY: Corporation for National and Community Service.

ACTION: Notice.

SUMMARY: The Corporation for National and Community Service (hereinafter the “Corporation”) announces the availability of its AmeriCorps application guidelines for the 2003-2004 program year. These guidelines set forth the policies, procedures, and timelines that will govern the allocation of all AmeriCorps resources in fiscal year 2004, in all of the following programs: AmeriCorps*State; AmeriCorps*U.S. Territories; AmeriCorps*Indian Tribes; AmeriCorps*South Dakota; AmeriCorps*Education Awards Program; and AmeriCorps*National (for nonprofit organizations operating a program in two or more states).

These guidelines establish requirements for organizations applying for funds, and provide the criteria that will be used in evaluating applicants. A Notice of Funds Availability will follow once the Corporation's fiscal year 2004 budget is finalized.

In addition, the Corporation will hold technical assistance conference calls for organizations applying directly to the Corporation for funding for AmeriCorps*National, AmeriCorps*U.S. Territories, AmeriCorps*Indian Tribes, AmeriCorps*South Dakota, and Education Awards Program applicants. Please check the AmeriCorps Web site at http://www.americorps.org/resources/guidelines2004.html for information concerning future technical assistance conference calls.

FOR FURTHER INFORMATION CONTACT: You may obtain copies of the 2004 AmeriCorps application guidelines by calling Nancy Talbot at (202) 606-5000 x470 (ntalbot@cns.gov). The TDD number is (202) 565-2799. Alternatively, you may download a copy of the 2004 guidelines from our Web site at http://www.americorps.org/resources/guidelines2004.html.

SUPPLEMENTARY INFORMATION: How to register for conference calls: Conference call topics, dates, times, and registration information are posted on the AmeriCorps Web site. Please check the AmeriCorps Web site at: http://www.americorps.org/resources/guidelines2004.html. Participation in the calls is optional. All calls will be recorded and available for replay. Please contact your Program Officer if you are an existing grantee, or call ext. 417 if you have any questions.

Dated: January 21, 2004.
Nancy Talbot,
Director, Program Planning and Development.

[FR Doc. 04-1610 Filed 1-26-04; 8:45 am]

BILLING CODE 6050-$$-P